DEPARTMENT OF TRANSPORTATION

Federal Transit Administration

Limitation on Claims Against Proposed Public Transportation Project—METRORapid University Corridor Project, Houston, Harris County, Texas

AGENCY: Federal Transit Administration (FTA), Department of Transportation (DOT).

ACTION: Notice.

SUMMARY: This notice announces final environmental actions taken by the Federal Transit Administration (FTA) regarding the METRORapid University Corridor Project, Houston, Harris County, Texas. The purpose of this notice is to publicly announce FTA's environmental decisions on the subject project, and to activate the limitation on any claims that may challenge these final environmental actions.

DATES: A claim seeking judicial review of FTA actions announced herein for the listed public transportation project will be barred unless the claim is filed on or before July 11, 2024.

FOR FURTHER INFORMATION CONTACT: Kathryn Loster, Assistant Chief Counsel, Office of Chief Counsel, (312) 705-1269, or Saadat Khan, Environmental Protection Specialist, Office of Environmental Programs, (202) 366-9647. FTA is located at 1200 New Jersey Avenue SE, Washington, DC 20590. Office hours are from 9 a.m. to 5 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov.

This notice applies to all FTA decisions on the listed project as of the issuance date of this notice and all laws under which such actions were taken, including, but not limited to, NEPA (42 U.S.C. 4321-4375), section 4(f) requirements (49 U.S.C. 303), section 106 of the National Historic Preservation Act (54 U.S.C. 306108). This notice does not, however, alter or extend the limitation period for challenges of project decisions subject to previous notices published in the Federal Register. The project modifications and actions that are the subject of this notice follow:

Project name and location: METRORapid University Corridor Project (Project), Houston, Harris County, Texas. Project Sponsor: Metropolitan Transit Authority of Harris County (METRO), Houston, Texas. Project description: The project would construct an approximately 25-mile bus rapid transit (BRT) line from Westchase Park & Ride to Tidwell Transit Center in the City of Houston, Texas (City). The BRT line would operate in dedicated, METRO-owned right-of-way from Westchase Park & Ride to Interstate-610 then transition to the center of City-owned and maintained streets. The project would also include 42 stations plus one stop at each end with accessible platforms, level boarding, next-bus arrival signs, security cameras, lighting, and offboard fare payment via ticket vending machines, electronic fare cards, or mobile devices.

Final agency actions: Section 4(f) de minimis impact determination, dated November 22, 2023; Section 106 No Adverse Effect determination, dated October 24, 2023; and Determination of the applicability of a categorical exclusion pursuant to 23 CFR 771.118(d), dated November 22, 2023. Supporting documentation: Documented Categorical Exclusion (CE) and supporting materials, dated November 22, 2023. The CE and associated documents can be viewed and downloaded from: https://www.ridemetro.org/about/metronext/metrorapid/metrorapid-university-corridor-project.

Authority: 23 U.S.C. 139(l)(1).

Megan Blum,
Acting Deputy Associate Administrator for Planning and Environment.

[FR Doc. 2024-02778 Filed 2-9-24; 8:45 am]

BILLING CODE 4910-57-P